DEPARTMENT OF AGRICULTURE

Agricultural Marketing Service

7 CFR Chapter I

Grain Inspection, Packers and Stockyards Administration

7 CFR Chapter VIII

[Docket Number FGIS-2000-001b]

RIN 0580-AA73

Request for Public Comments on How USDA Can Best Facilitate the Marketing of Grains, Oilseeds, Fruits, Vegetables, and Nuts in Today's Evolving Marketplace

AGENCY: Agricultural Marketing Service, Grain Inspection, Packers and Stockyards Administration, USDA.

ACTION: Notice of reopening and extension of comment period.

SUMMARY: The Agricultural Marketing Service and the Grain Inspection, Packers and Stockyards Administration published an advance notice of proposed rulemaking in the Federal Register on November 30, 2000, asking for comments on how USDA can best facilitate the marketing of grains, oilseeds, fruits, vegetables, and nuts in today's evolving marketplace. The 90-day comment period provided in the ANPRM closed February 28, 2001. It has been brought to our attention that several potential commenters need additional time to formulate their responses to the ANPRM. Therefore, we are reopening and extending the comment period to provide interested parties with additional time in which to comment.

DATES: Comments must be received on or before April 16, 2001.

ADDRESSES: Interested persons are invited to submit written comments on this notice to Richard Hardy, GIPSA, USDA, 1400 Independence Avenue, SW., Room 0757-S, Washington, DC 20250-3650. Comments may also be sent by fax to (202) 720-2459; filed via the Internet through the GIPSA homepage at www.usda.gov/gipsa; or e-mailed to anpr@gipsadc.usda.gov.

It is our intention to have all comments on the advance notice of proposed rulemaking available for viewing on the GIPSA homepage at www.usda.gov/gipsa in a timely manner.

Comments are also available for viewing in room 0757-S from 9 a.m. to 12 noon and from 1p.m. to 4 p.m. Monday through Friday (except official Federal holidays) (7 CFR 1.27). Persons wanting to visit the USDA South Building to view the comments are requested to make an appointment in advance by calling (202) 720-4848.

FOR FURTHER INFORMATION CONTACT: Marianne Plaus, Assistant to the Deputy Administrator, Federal Grain Inspection Service, GIPSA, 202-690-3460.

SUPPLEMENTARY INFORMATION: The Agricultural Marketing Service and the Grain Inspection, Packers and Stockyards Administration published an advance notice of proposed rulemaking (ANPRM) in the Federal Register on November 30, 2000 (65 FR 71272), asking for comments on how USDA can best facilitate the marketing of grains, oilseeds, fruits, vegetables, and nuts in today's evolving marketplace. Comments on the ANPRM were required to be received on or before February 28, 2001. Several potential commenters have indicated a need for additional time to formulate their responses to the ANPRM. Therefore, we are reopening and extending the comment period for the ANPRM for an additional 45 days. This action will allow interested persons additional time to prepare and submit comments.

Authority: 7 U.S.C. 71 et seq. and 7 U.S.C. 1621 et seq.

David R. Shipman,
Acting Administrator, Grain Inspection, Packers and Stockyards Administration.
Kenneth C. Clayton,
Acting Administrator, Agricultural Marketing Service.

[FR Doc. 01-5236 Filed 3-2-01; 8:45 am]

BILLING CODE 3410-EN-P